DEPARTMENT OF THE INTERIOR

National Park Service

[N6582; NPS-WASO-NAGPRA-NPS0041291; PPWOCRADN0-PCU00RP14.R50000]

Notice of Intended Repatriation: California State University, Stanislaus, Turlock, CA

AGENCY: National Park Service, Interior.

ACTION: Notice.

SUMMARY: In accordance with the Native American Graves Protection and Repatriation Act (NAGPRA), the California State University, Stanislaus intends to repatriate certain cultural items that meet the definition of objects of cultural patrimony and that have a cultural affiliation with the Indian Tribes or Native Hawaiian organizations in this notice.

DATES: Repatriation of the cultural items in this notice may occur on or after December 18, 2025.

ADDRESSES: Send additional, written requests for repatriation of the cultural items in this notice to Jake Malsbury, NAGPRA/CalNAGPRA Repatriation Coordinator, Office of the President, California State University, Stanislaus, One University Circle, Turlock, CA 95382, email jmalsbury@csustan.edu.

SUPPLEMENTARY INFORMATION: This notice is published as part of the National Park Service's administrative responsibilities under NAGPRA. The determinations in this notice are the sole responsibility of the California State University, Stanislaus, and additional information on the determinations in this notice, including the results of consultation, can be found in the summary or related records. The National Park Service is not responsible for the determinations in this notice.

Abstract of Information Available

A total of 19 cultural items have been requested for repatriation. The 19 objects of cultural patrimony include flaked stone and ground stone objects, historic objects, and mineral fragments. The cultural items were removed from sites CA-AMA-348/H, AMA-352, and AMA-353 in Amador County, CA. The items were removed in 1991 by Lewis K. Napton with the California State University, Stanislaus, Institute for Archaeological Research as part of cultural resource investigations for Community Concepts of Mariposa, California for their Q-Ranch Development Project.

Determinations

The California State University, Stanislaus has determined that:

• The 19 objects of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural items described in this notice and the California Valley Miwok Tribe, California; Ione Band of Miwok Indians of California; United Auburn Indian Community of the Auburn Rancheria of California; Washoe Tribe of Nevada & California (Carson Colony, Dresslerville Colony, Woodfords Community, Stewart Community, & Washoe Ranches); and the Wilton Rancheria, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after December 18, 2025. If competing requests for repatriation are received, the California State University, Stanislaus must determine the most appropriate requestor prior to repatriation. Requests for joint repatriation of the cultural items are considered a single request and not competing requests. The California State University, Stanislaus is responsible for sending a copy of this notice to the Indian Tribes and Native Hawaiian organizations identified in this notice and to any other consulting parties.

Authority: Native American Graves Protection and Repatriation Act, 25 U.S.C. 3004 and the implementing regulations, 43 CFR 10.9.

Dated: September 30, 2025.
Melanie O'Brien,
Manager, National NAGPRA Program.

[FR Doc. 2025-20100 Filed 11-17-25; 8:45 am]

BILLING CODE 4312-52-P